DEPARTMENT OF DEFENSE

Department of the Army, Army Corps of Engineers

Notice of Intent To Prepare an Environmental Impact Statement for the Detroit Dam Downstream Passage Project

AGENCY: Department of the Army, U.S. Army Corps of Engineers, DoD.

ACTION: Notice of intent.

SUMMARY: The Portland District, U.S. Army Corps of Engineers (Corps) intends to prepare an Environmental Impact Statement (EIS). The purpose of this EIS is to analyze effects to the human environment associated with the Corps efforts to enhance juvenile passage of Endangered Species Act (ESA) listed Upper Willamette River (UWR) spring Chinook salmon and winter steelhead through Detroit Dam to reaches downstream of the dam; and to modify temperatures in the North Santiam and main stem Santiam Rivers, below Detroit Dam, with the objective of replicating pre-reservoir water temperatures. These actions are part of the Corps implementation of the National Marine Fisheries Service (NMFS) and U.S. Fish and Wildlife Service (USFWS) 2008 Biological Opinions (BiOp) for the continued operations and maintenance of the Willamette Valley Project. The Corps will serve as the lead federal agency for purposes of the National Environmental Policy Act (NEPA).

DATES: Written comments for consideration in the development of the scope of the NEPA EIS are due to the addresses below no later than January 8, 2018. Comments may also be made at the public scoping meetings as noted below.

ADDRESSES: Mailed comments may be sent to: U.S. Army Corps of Engineers, Portland District, P.O. Box 2946, Attn: CENWP-PM-E, Portland, Oregon 97208-2946. Email comments to: detroit.fish.passage@usace.army.mil. All comments and materials received, including names and addresses, will become part of the administrative record and may be released to the public.

FOR FURTHER INFORMATION CONTACT: For questions regarding the Project, the EIS, or special accommodations for scoping process participation, please contact Kelly Janes, Environmental Resources Specialist; (503) 808-4771.

SUPPLEMENTARY INFORMATION: Project Background. The Corps' Detroit and Big Cliff dams and reservoirs are located in Linn and Marion Counties in the Oregon Cascades, in the North Santiam River sub-basin of the Willamette River basin near the city of Detroit, Oregon. The Detroit and Big Cliff dams, both completed in 1953, form a complete barrier to upstream fish passage. This lack of access for UWR spring Chinook salmon and steelhead to the high-quality habitat upstream is a critical limiting factor for the recovery and contributes to a high or very high extinction risk. Additionally, the dam poses a significant barrier and risk for downstream migrating juvenile fish. Finally, construction and operation of Detroit Dam has altered the pre-dam seasonal thermal regimes in the North Santiam River. Detroit Dam operations have resulted in cooler downstream water temperatures in the spring and summer then were experienced before the dam was built. Detroit Dam operations also result in warmer downstream temperatures in the fall and winter compared to pre-dam conditions. The altered temperature regime negatively affects the productivity of UWR spring Chinook salmon and winter steelhead in the lower North Santiam River, and has been identified as one of the most critical limiting factors for species recovery.

Detroit and Big Cliff dams and reservoirs are included in the 13 multipurpose dams and reservoirs the Corps operates and maintains in the Willamette River Basin in Oregon, collectively referred to as the Willamette Project. The listing of several species under the ESA required the Corps to perform an assessment of the effects of operating the Willamette Project on listed species. Based on this assessment, the NMFS released a BiOp in 2008, which identified measures that it believed would avoid jeopardizing the existence of ESA listed fish in the Willamette basin, referred to as measures in the Reasonable and Prudent Alternative (RPA). Measure 4.12.3 of the RPA requires downstream fish passage at Detroit Dam. Measure 5.2 of the RPA requires the minimization of water quality effects associated with operations of Detroit and Big Cliff dams by making structural modifications or major operational changes. The BiOp acknowledges that, if feasible, there might be cost-savings and reduced effects if addressing both RPA measures were be achieved through one construction project.

Proposed Project. The Corps is developing a project to provide downstream juvenile fish passage for UWR Chinook and steelhead as well as to provide temperature control at Detroit Dam. The purposes of the proposed project is to enhance juvenile passage of UWR spring Chinook and winter steelhead on the North Santiam to reaches downstream of the dams; and to modify temperatures on the North Santiam and main stem Santiam Rivers, below Detroit Dam, with the objective of replicating pre-reservoir water temperatures for UWR spring Chinook and UWR winter steelhead habitat.

Alternatives. The project will be developed in a manner that is consistent with sound engineering practice and meets all applicable federal environmental laws. In addition to the No Action Alternative, in which case dam operations will continue in the absence of the Project, structural and operational alternatives considered will include, but are not limited to: Optimizing operations, upgrading current structures, and constructing new structures adjacent to the Detroit Dam in Detroit Reservoir. Additional alternatives could be developed during the scoping and evaluation process.

Scoping Process/Public Involvement. The Corps invites all affected federal, state, and local agencies, affected Native American Tribes, other interested parties, and the general public to participate in the NEPA process during development of the EIS. The purpose of the public scoping process is to provide information to the public, narrow the scope of analysis to significant environmental issues, serve as a mechanism to solicit agency and public input on alternatives and issues of concern, and ensure full and open participation in scoping of the Draft EIS. Two public scoping meetings are scheduled for December 2017. The specific dates, times, and locations of the meetings are provided below.

Upon completion of the scoping process, the Draft EIS will be circulated for public review and comment. The Corps expects to release the Draft EIS for public review and comment in 2019. The Corps will issue a Notice of Availability in the Federal Register announcing the release of the Draft EIS for public comment through the local news media. Documents and other important information related to the EIS will be available for review on the Corps' project Web site.

Public Scoping Meetings:

• Thursday, December 14, 2017, 4:00 p.m. to 7:00 p.m. at the South Salem High School Library located at 1910 Church Street SE., Salem, OR 97302.

• Tuesday, December 19, 2017, 4:00 p.m. to 7:00 p.m. at the Gates Fire Hall located at 140 East Sorbin Street, Gates, Oregon 97346.

Additional information related to the public scoping process will be provided through advertisements placed in regional newspapers of general circulation, Public Notice, and on the project Web site at https://nwp.usace.army.mil/Willamette/Detroit/fish-passage/.

Aaron L. Dorf,
Colonel, Corps of Engineers, District Commander.

[FR Doc. 2017-25398 Filed 11-22-17; 8:45 am]

BILLING CODE 3720-58-P